NUCLEAR REGULATORY COMMISSION

[Docket Nos. 50-266 and 50-301; NRC-2020-0248]

NextEra Energy Point Beach, LLC; Point Beach Nuclear Plant, Units 1 and 2

AGENCY: Nuclear Regulatory Commission.

ACTION: Subsequent license renewal application; receipt.

SUMMARY: The U.S. Nuclear Regulatory Commission (NRC) has received an application for the subsequent renewal of Renewed Facility Operating License Nos. DPR-24 and DPR-27, which authorize NextEra Energy Point Beach, LLC (NextEra, the applicant), to operate Point Beach Nuclear Plant, Units 1 and 2 (Point Beach). The subsequent renewed licenses would authorize the applicant to operate Point Beach for an additional 20 years beyond the period specified in each of the current renewed licenses. The current renewed operating licenses for Point Beach expire as follows: Unit 1 on October 5, 2030, and Unit 2 on March 8, 2033.

DATES: The subsequent license renewal application referenced in this document is available on December 29, 2020.

ADDRESSES: Please refer to Docket ID NRC-2020-0248 when contacting the NRC about the availability of information regarding this document. You may obtain publicly available information related to this document using any of the following methods:

• Federal Rulemaking Website: Go to https://www.regulations.gov and search for Docket ID NRC-2020-0248. Address questions about Docket IDs to Jennifer Borges; telephone: 301-287-9127; email: Jennifer.Borges@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• Public Library: A copy of the subsequent license renewal application for Point Beach can be accessed at the following public library (however, the library is currently closed due to the Coronavirus Disease 2019 public health emergency and, accordingly, access will be available once the library has reopened): Lester Public Library, 1001 Adams St., Two Rivers, Wisconsin 54211.

• Attention: The PDR, where you may examine and purchase copies of public documents, is currently closed. You may submit your request to the PDR via email at PDR.Resource@nrc.gov or call 1-800-397-4209 between 8:00 a.m. and 4:00 p.m. (EST), Monday through Friday, except Federal holidays.

FOR FURTHER INFORMATION CONTACT: Bill Rogers, Office of Nuclear Reactor Regulation, U.S. Nuclear Regulatory Commission, Washington, DC 20555-0001; telephone: 301-415-2945, email: Bill.Rogers@nrc.gov.

SUPPLEMENTARY INFORMATION: The NRC has received an application (ADAMS Package Accession No. ML20329A292) from NextEra, dated November 16, 2020, filed pursuant to Section 103 of the Atomic Energy Act of 1954, as amended, and part 54 of title 10 of the Code of Federal Regulations, for subsequent renewal of the renewed operating licenses for Point Beach. Subsequent renewal of the licenses would authorize the applicant to operate the facility for an additional 20-year period beyond the current renewed operating license expiration dates of October 5, 2030, and March 8, 2033, for Units 1 and 2, respectively. The Point Beach units are pressurized-water reactors located near Manitowoc, Wisconsin. The acceptability of the tendered application for docketing and other matters, including an opportunity to request a hearing, will be the subject of subsequent Federal Register notices.

Dated: December 21, 2020.
For the Nuclear Regulatory Commission.
Lauren K. Gibson,
Chief, License Renewal Project Branch, Division of New and Renewed Licenses, Office of Nuclear Reactor Regulation.

[FR Doc. 2020-28626 Filed 12-28-20; 8:45 am]

BILLING CODE 7590-01-P